COMMITTEE FOR PURCHASE FROM PEOPLE WHO ARE BLIND OR SEVERELY DISABLED

Procurement List; Additions and Deletions

AGENCY: Committee for Purchase from People Who Are Blind or Severely Disabled.

ACTION: Additions to and deletions from Procurement List.

SUMMARY: This action adds to the Procurement List services to be furnished by nonprofit agencies employing persons who are blind or have other severe disabilities, and deletes from the Procurement List products and services previously furnished by such agencies.

DATES: Effective Date: July 2, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On April 7, 2006, the Committee for Purchase From People Who Are Blind or Severely Disabled published notice (71 FR 17809) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Base Supply Store, Hazmart & Self Help Operations, Building 4406, Fort Hood, Texas.

NPA: San Antonio Lighthouse for the Blind, San Antonio, Texas.

Contracting Activity: Army Contract Agency, Fort Hood, Texas.

Service Type/Location: Custodial Services, Transportation Security Administration, Rafael Hernandez Airport, Ave. Ing. Alarcon Rodriquez Hanger #405, Aguadilla, Puerto Rico.

NPA: The Corporate Source, Inc., New York, New York.

Contracting Activity: GSA, Caribbean Property Management Center, Hato Rey, Puerto Rico.

Service Type/Location: Custodial Services, U.S. Geological Survey, Columbia River Research Lab, 5501-A Cook-Underwood Road, Cook, Washington.

NPA: Hood River Sheltered Workshop, Hood River, Oregon.

Contracting Activity: U.S. Geological Survey, Sacramento, California.

Service Type/Location: Grounds Maintenance, Internal Revenue Service, Fresno Campus,

5045 E. Butler Avenue, Fresno, California.

NPA: Valley Service Connection, Inc., Stockton, California.

Contracting Activity: U.S. Treasury, IRS, San Francisco, California.

Deletions

On March 31, and April 7, 2006, the Committee for Purchase From People Who Are Blind or Severely Disabled published notice (71 FR 16285, and 17809) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Product/NSNs: Brush, Plater's, Hand, 7920-00-267-1213—Brush, Plater's, Hand.

NPA: Industries for the Blind, Inc., Milwaukee, Wisconsin.

Contracting Activity: GSA, Southwest Supply Center, Fort Worth, Texas.

Product/NSNs: Computer Accessories, 7045-01-483-7838—Comfort Wrist Mouse Pad. NPA: Wiscraft Inc.—Wisconsin Enterprises for the Blind, Milwaukee, Wisconsin.

Contracting Activity: Office Supplies & Paper Products Acquisition Center, New York, NY.

Product/NSNs: Staff Section, 1010-00-225-4906—Staff Section, 1025-00-563-7232—Staff Section, 1015-00-699-0633—Staff Section.

NPA: Montgomery County Chapter, NYSARC, Inc., Amsterdam, New York.

Contracting Activity: Defense Supply Center Columbus, Columbus, Ohio.

Services

Service Type/Location: Base Supply Center, Brooks Air Force Base, Texas.

NPA: San Antonio Lighthouse for the Blind, San Antonio, Texas.

Contracting Activity: Department of the Air Force.

Service Type/Location: Base Supply Center, Defense Supply Service—Washington, Skyline #3, 5109 Leesburg Pike, Alexandria, Virginia.

NPA: Virginia Industries for the Blind, Charlottesville, Virginia.

Contracting Activity: Defense Supply Service, Washington, DC.

Service Type/Location: Food Service, U.S. Property and Fiscal Officer, Wisconsin, Wisconsin Military Academy,

90 S 10th Avenue, Fort McCoy, Wisconsin.

NPA: Challenge Unlimited, Inc., Alton, Illinois.

Contracting Activity: U.S. Property and Fiscal Officer for Wisconsin, Camp Douglas, Wisconsin.

Sheryl D. Kennerly,
Director, Information Management.

[FR Doc. E6-8559 Filed 6-1-06; 8:45 am]

BILLING CODE 6353-01-P